DEPARTMENT OF HEALTH AND HUMAN SERVICES

Health Resources and Services Administration

Ryan White HIV/AIDS Program Part F Regional AIDS Education and Training Centers

AGENCY: Health Resources and Services Administration (HRSA), Department of Health and Human Services.

ACTION: Notice of supplemental award.

SUMMARY: HRSA's HIV/AIDS Bureau will award supplemental funding to the eight current recipients of the Ryan White HIV/AIDS Program Part F Regional AIDS Education and Training Centers (AETC) in Fiscal Year (FY) 2020 and pending the availability of funds, in each succeeding fiscal year of their periods of performance. The recipients will use this supplement funding to provide critical expertise and resources to respond to the specific workforce development needs of novice and experienced health professionals who care for people with or at risk for HIV in Ending the HIV Epidemic focus areas.

Table 1—Award Recipients and Amounts
Grant No. | Award recipient | FY20 supplemental award | Estimated out-year supplemental amount
U1OHA29294 | University of Massachusetts | $90,290 | FY21—$316,016 FY22—316,016 FY23—316,016 FY24—316,016
U1OHA29295 | University of Pittsburgh | 187,735 | FY21—657,074 FY22—657,074 FY23—657,074 FY24—657,074
U1OHA29291 | The Trustees of Columbia University in the City of New York | 240,112 | FY21—840,392 FY22—840,392 FY23—840,392 FY24—840,392
U1OHA30535 | Vanderbilt University Medical Center | 700,020 | FY21—2,450,068 FY22—2,450,068 FY23—2,450,068 FY24—2,450,068
U1OHA33225 | University of New Mexico | 395,061 | FY21—1,382,714 FY22—1,382,714 FY23—1,382,714 FY24—1,382,714
U1OHA29293 | University of Illinois | 363,864 | FY21—1,273,524 FY22—1,273,524 FY23—1,273,524 FY24—1,273,524
U1OHA29292 | University of California San Francisco | 336,021 | FY21—1,176,074 FY22—1,176,074 FY23—1,176,074 FY24—1,176,074
U1OHA29296 | The University of Washington | 86,897 | FY21—304,139 FY22—304,139 FY23—304,139 FY24—304,139

Regional AETCs Funding Levels in FY 2020 and throughout the period of performance. Funding beyond FY 2020 is subject to the availability of appropriated funds, satisfactory recipient performance, and a decision that continued funding is in the best interest of the federal government.

SUPPLEMENTARY INFORMATION: Intended Recipient of the Award: Regional AIDS Education and Training Centers as listed on TABLE 1.

Amount of Award: $2,400,000 available in FY 2020. See TABLE 1 for award amounts in each subsequent year of each regional AETC's period of performance.

CFDA Number: 93.145.

Project Period: March 1, 2020- June 30, 2024.

Authority: 42 U.S.C. 300ff-111(a) (section 2692(a) of the Public Health Service (PHS) Act), 42 U.S.C. 300ff-121 (section 2693 of the PHS Act), and Further Consolidated Appropriations Act, 2020 (Pub. L. 116-94).

Justification: The award recipients will provide specialized HIV focused training and technical assistance (T/TA) to providers in geographic areas with the highest HIV burden, targeted as Ending the HIV Epidemic: A Plan for America (EHE) jurisdictions, which are 48 counties; Washington, DC; San Juan, Puerto Rico; and seven states that have a substantial rural HIV burden. Since the AETC regional centers operate in all U.S. states and territories, the target areas of the EHE are already encompassed in their service areas. This geographic coverage offers HRSA a strategic opportunity to leverage the existing AETC infrastructure and their established networks of health care providers and professional training institutions to provide critical, time-sensitive training and technical assistance in EHE jurisdictions. Further, since the goals of the AETC program directly align with the goals of the EHE initiative, regional AETCs are uniquely positioned to immediately begin delivering targeted, multidisciplinary education and training to new and experienced health care professionals to enable them to provide quality HIV care and treatment in the EHE jurisdictions. Supplemental funds are necessary to support timely implementation of critical training and technical assistance to providers in geographic locations identified by the EHE initiative. The award recipients have the demonstrated expertise and scalable experience required to address these time-sensitive training and technical assistance needs.

FOR FURTHER INFORMATION CONTACT: Sherrillyn Crooks, Chief, HIV Education Branch, Office of Training and Capacity Development, HRSA, 5600 Fishers Lane, Room 9N110, Rockville, MD 20857, by email at scrooks@hrsa.gov or by phone at (301) 443-7662.

Thomas J. Engels,
Administrator.

[FR Doc. 2020-07205 Filed 4-6-20; 8:45 am]

BILLING CODE 4165-15-P